THE NATIONAL FOUNDATION ON THE ARTS AND THE HUMANITIES

Meetings of Humanities Panel

AGENCY: The National Endowment for the Humanities.

ACTION: Notice of meetings.

SUMMARY: Pursuant to the provisions of the Federal Advisory Committee Act (Pub. L. 92-463, as amended), notice is hereby given that the following meetings of the Humanities Panel will be held at the Old Post Office, 1100 Pennsylvania Avenue, NW., Washington, DC 20506.

FOR FURTHER INFORMATION CONTACT: Michael McDonald, Acting Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority to Close Advisory Committee meetings, dated July 19, 1993, I have determined that these meetings will be closed to the public pursuant to subsections (c)(4), and (6) of section 552b of Title 5, United States Code.

1. Date: August 1, 2005.

Time: 8:30 a.m. to 5 p.m.

Room: 315.

Program: This meeting will review applications for Fellowships in Anthropology, submitted to the Division of Research Programs at the May 1, 2005, deadline.

2. Date: August 1, 2005.

Time: 8:30 a.m. to 5 p.m.

Room: 415.

Program: This meeting will review applications for Fellowships in African, Near Eastern, and Asian Studies, submitted to the Division of Research Programs at the May 1, 2005, deadline.

3. Date: August 2, 2005.

Time: 8:30 a.m. to 5 p.m.

Room: 315.

Program: This meeting will review applications for Fellowships in American History and Studies I, submitted to the Division of Research Programs at the May 1, 2005, deadline.

4. Date: August 2, 2005.

Time: 8:30 a.m. to 5 p.m.

Room: 415.

Program: This meeting will review applications for Fellowships in American History and Studies II, submitted to the Division of Research Programs at the May 1, 2005, deadline.

5. Date: August 3, 2005.

Time: 8:30 a.m. to 5 p.m.

Room: 315.

Program: This meeting will review applications for Fellowships in Film, Media, Rhetoric and Communication, submitted to the Division of Research Programs at the May 1, 2005, deadline.

6. Date: August 4, 2005.

Time: 8:30 a.m. to 5 p.m.

Room: 315.

Program: This meeting will review applications for Fellowships in Music, submitted to the Division of Research Programs at the May 1, 2005 deadline.

7. Date: August 5, 2005.

Time: 8:30 a.m. to 5 p.m.

Room: 315.

Program: This meeting will review applications for Fellowships in Romance Studies I, submitted to the Division of Research Programs at the May 1, 2005, deadline.

8. Date: August 8, 2005.

Time: 8:30 a.m. to 5 p.m.

Room: 415.

Program: This meeting will review applications for Fellowships in Sociology, Anthropology, and Psychology, submitted to the Division of Research Programs at the May 1, 2005 deadline.

9. Date: August 8, 2005.

Time: 8:30 a.m. to 5 p.m.

Room: 315.

Program: This meeting will review applications for Fellowships for Advanced Research on Japan: Advanced Research on Japan (FO), submitted to the Division of Research Programs at the May 1, 2005, deadline.

10. Date: August 9, 2005.

Time: 8:30 a.m. to 5 p.m.

Room: 315.

Program: This meeting will review applications for Fellowships in Medieval Studies, submitted to the Division of Research Programs at the May 1, 2005, deadline.

11. Date: August 9, 2005.

Time: 8:30 a.m. to 5 p.m.

Room: 415.

Program: This meeting will review applications for Fellowships in Ancient and Classical Studies, submitted to the Division of Research Programs at the May 1, 2005, deadline.

12. Date: August 10, 2005.

Time: 8:30 a.m. to 5 p.m.

Room: 315.

Program: This meeting will review applications for Fellowships in Latin American Studies II, submitted to the Division of Research Programs at the May 1, 2005, deadline.

13. Date: August 10, 2005.

Time: 8:30 a.m. to 5 p.m.

Room: 415.

Program: This meeting will review applications for Fellowships in American Literature II, submitted to the Division of Research Programs at the May 1, 2005, deadline.

14. Date: August 11, 2005.

Time: 8:30 a.m. to 5 p.m.

Room: 315.

Program: This meeting will review applications for Fellowships in American Studies I, submitted to the Division of Research Programs at the May 1, 2005, deadline.

15. Date: August 12, 2005.

Time: 8:30 a.m. to 5 p.m.

Room: 315.

Program: This meeting will review applications for Fellowships in History of Art and Archaeology, submitted to the Division of Research Programs at the May 1, 2005, deadline.

16. Date: August 15, 2005.

Time: 8:30 a.m. to 5 p.m.

Room: 315.

Program: This meeting will review applications for Fellowships in Political Science and Jurisprudence, submitted to the Division of Research Programs at the May 1, 2005, deadline.

17. Date: August 15, 2005.

Time: 8:30 a.m. to 5 p.m.

Room: 415.

Program: This meeting will review applications for Fellowships in Religious Studies I, submitted to the Division of Research Programs at the May 1, 2005, deadline.

18. Date: August 16, 2005.

Time: 8:30 a.m. to 5 p.m.

Room: 315.

Program: This meeting will review applications for Fellowships in Philosophy I, submitted to the Division of Research Programs at the May 1, 2005, deadline.

19. Date: August 16, 2005.

Time: 8:30 a.m. to 5 p.m.

Room: 415.

Program: This meeting will review applications for Fellowships in Philosophy II, submitted to the Division of Research Programs at the May 1, 2005, deadline.

20. Date: August 17, 2005.

Time: 8:30 a.m. to 5 p.m.

Room: 315.

Program: This meeting will review applications for Fellowships in American History III, submitted to the Division of Research Programs at the May 1, 2005, deadline.

21. Date: August 18, 2005.

Time: 8:30 a.m. to 5 p.m.

Room: 315.

Program: This meeting will review applications for Faculty Research Awards in Humanities II, submitted to the Division of Research Programs at the May 1, 2005, deadline.

22. Date: August 18, 2005.

Time: 8:30 a.m. to 5 p.m.

Room: 415.

Program: This meeting will review applications for Fellowships in Comparative Literature and Literary Criticism, submitted to the Division of Research Programs at the May 1, 2005, deadline.

23. Date: August 19, 2005.

Time: 8:30 a.m. to 5 p.m.

Room: 315.

Program: This meeting will review applications for Fellowships in Romance Studies II, submitted to the Division of Research Programs at the May 1, 2005, deadline.

Michael McDonald,
Acting Advisory Committee Management Officer.

[FR Doc. 05-14553 Filed 7-22-05; 8:45 am]

BILLING CODE 7536-01-P